FEDERAL ELECTION COMMISSION

Sunshine Act Meeting

AGENCY: Federal Election Commission.

Federal Register Citation of Previous Announcement—77 FR 65687 (October 30, 2012).

DATE & TIME: Thursday, November 1, 2012 at 10:00 a.m.

Place: 999 E Street NW., Washington, DC (Ninth Floor).

Status: This Meeting Will Be Open To The Public.

Changes In The Meeting—This meeting has been cancelled.

Person To Contact For Information: Judith Ingram, Press Officer. Telephone: (202) 694-1220.

Shelley E. Garr,
Deputy Secretary of the Commission.

[FR Doc. 2012-26942 Filed 10-31-12; 4:15 pm]

BILLING CODE 6715-01-P